DEPARTMENT OF COMMERCE

National Oceanic and Atmospheric Administration

50 CFR Part 660

[Docket No. 180625576-8999-02]

RIN 0648-BI94

Magnuson-Stevens Act Provisions; Fisheries Off West Coast States; Pacific Coast Groundfish Fishery; 2019-2020 Biennial Specifications and Management Measures; Inseason Adjustments

Correction

In rule document 2019-11610, appearing on pages 25708 through 25720, in the issue of Tuesday, June 4, 2019, Table 2 (South) and Table 3 (South) are corrected to read as below:

Part 660, Subpart E [Corrected]

1. On page 25716, Table 2 (South) is republished as follows:

BILLING CODE 1301-00-D

Part 660, Subpart F [Corrected]

2. On pages 25719-25720, Table 3 (South) is republished as follows:

[FR Doc. C1-2019-11610 Filed 7-24-19; 8:45 am]

BILLING CODE 1301-00-C